DEPARTMENT OF HEALTH AND HUMAN SERVICES

Centers for Disease Control and Prevention

[30Day-21-21AT]

Agency Forms Undergoing Paperwork Reduction Act Review

In accordance with the Paperwork Reduction Act of 1995, the Centers for Disease Control and Prevention (CDC) has submitted the information collection request titled Evaluation of Venous Thromboembolism Prevention Practices in U.S. Hospitals to the Office of Management and Budget (OMB) for review and approval. CDC previously published a “Proposed Data Collection Submitted for Public Comment and Recommendations” notice on November 19, 2020 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Evaluation of Venous Thromboembolism Prevention Practices in U.S. Hospitals—New—National Center on Birth Defects and Developmental Disabilities (NCBDDD), Centers for Disease Control and Prevention (CDC).

Background and Brief Description

The National Center on Birth Defects and Disabilities (NCBDDD) is submitting a New Information Collection Request for one-year approval. Venous thromboembolism (VTE) is an important and growing public health problem. Over half of VTE events are associated with recent hospitalization and most occur after discharge. Hospital-associated VTE is often preventable but VTE prevention strategies are not applied uniformly or systematically across U.S. hospitals. The framework for VTE prevention in hospitalized patients includes a hospital VTE prevention policy, an interdisciplinary VTE team, a VTE prevention protocol, monitoring of processes and outcomes, and VTE prevention education for providers and patients. A VTE prevention protocol includes VTE risk assessment, bleeding risk assessment, and clinical decision support for appropriate VTE prophylaxis. Increase in VTE risk assessment rates have been associated with improvements in VTE prophylaxis.

An implementation gap exists between evidence-based guidelines for VTE prophylaxis in hospitalized adult patients and implementation of those guidelines in real-world hospital settings. However, data on VTE prevention practices in U.S. hospitals is lacking. To address this gap, CDC, in collaboration with The Joint Commission, developed a survey on hospital VTE prevention practices. The survey will be implemented by The Joint Commission as an electronic one-time data collection in a nationally representative sample of U.S. adult general medical and surgical hospitals. The target respondent will be the hospital Director of Patient Safety and Quality or similar position. The survey will be voluntary. No individual-level data will be collected. CDC will not receive any individual or hospital identifiable information.

The information collected will improve understanding of hospital VTE prevention practices to guide efforts and inform interventions to reduce the burden of hospital-associated VTE. Information on the capacity of hospitals to collect data on VTE risk assessment will be helpful in determining the feasibility of VTE risk assessment as a VTE prevention performance measure. The data collected can also serve as a baseline for evaluation of future hospital-associated VTE prevention initiatives. The estimated annual burden is 384 hours, based on a pilot of the electronic survey at 9 hospitals. There is no cost to respondents other than their time.

Estimated Annualized Burden Hours
Type of respondents | Form name | Number of respondents | Number of responses per respondent | Average burden per response (in hours)
The Director of Patient Safety and Quality, the Chairperson of the Patient Safety Committee, other quality improvement professional | Evaluation of Venous Thromboembolism Prevention Practices in U.S. Hospitals Questionnaire | 384 | 1 | 1

Jeffrey M. Zirger,
Lead, Information Collection Review Office, Office of Scientific Integrity, Office of Science, Centers for Disease Control and Prevention.

[FR Doc. 2021-06288 Filed 3-25-21; 8:45 am]

BILLING CODE 4163-18-P